NUCLEAR REGULATORY COMMISSION

[Docket No. 72-16]

Virginia Electric and Power Company; Notice of Docketing of the Materials License SNM-2507 Amendment Application for the North Anna Independent Spent Fuel Storage Installation

By letter dated May 28, 2002, Virginia Electric and Power Company (Dominion) submitted an application to the U.S. Nuclear Regulatory Commission (NRC or Commission) in accordance with 10 CFR part 72 requesting an amendment of the North Anna independent spent fuel storage installation (ISFSI) license (SNM-2507) for the ISFSI located in Louisa County, Virginia. Dominion is seeking Commission approval to amend its license to change the ISFSI's technical specifications regarding the type of spent fuel authorized for storage. Dominion has requested to change the technical specifications to allow the storage of spent nuclear fuel with higher initial enrichment and burnup than currently specified.

This application was docketed under 10 CFR part 72; the ISFSI Docket No. is 72-16 and will remain the same for this action. The amendment of an ISFSI license is subject to the Commission's approval.

The Commission may issue either a notice of hearing or a notice of proposed action and opportunity for hearing in accordance with 10 CFR 72.46(b)(1) or, if a determination is made that the amendment does not present a genuine issue as to whether public health and safety will be significantly affected, take immediate action on the amendment in accordance with 10 CFR 72.46(b)(2) and provide notice of the action taken and an opportunity for interested persons to request a hearing on whether the action should be rescinded or modified.

For further details with respect to this application, see the application dated May 28, 2002, which is available for public inspection at the Commission's Public Document Room, One White Flint North Building, 11555 Rockville Pike, Rockville, MD or from the publicly available records component of NRC's Agencywide Documents Access and Management System (ADAMS). The NRC maintains ADAMS, which provides text and image files of NRC's public documents. These documents may be accessed through the NRC's Public Electronic Reading Room on the Internet at http://www.nrc.gov/reading-rm/adams.html. If you do not have access to ADAMS or if there are problems in accessing the documents located in ADAMS, contact the NRC Public Document Room (PDR) Reference staff at 1-(800)-397-4209, (301)-415-4737 or by email to pdr@nrc.gov.

Dated at Rockville, Maryland, this 4th day of October, 2002.
For the Nuclear Regulatory Commission.
E. William Brach,
Director, Spent Fuel Project Office, Office of Nuclear Material Safety and Safeguards.

[FR Doc. 02-26169 Filed 10-11-02; 8:45 am]

BILLING CODE 7590-01-P